DEPARTMENT OF ENERGY

Federal Energy Regulatory Commission

Notice of Applications for Surrender of Exemptions and Soliciting Comments, Motions To Intervene, and Protests

March 24, 2003.

Take notice that the following hydroelectric applications have been filed with the Commission and are available for public inspection:

a. Type of Applications: Surrender of Conduit Exemptions.

b. Project Nos.: 8434-001, 9007-002, and 9008-002.

c. Date Filed: March 6, 2003.

d. Applicant: Los Angles County Department of Public Works.

e. Names of Projects: West Coast Basin Barrier, Dominguez Gap Barrier, and Alamitos Barrier.

f. Location: Pressure Reduction Stations, in the Cities of El Segundo, Carson, and Long Beach, in Los Angeles County, California.

g. Filed pursuant to: Federal Power Act, 16 U.S.C. 791(a)-825(r).

h. Applicant Contact: Mr. Shem Hawes, Los Angeles County Department of Public Works, Water Resources Division, 900 South Fremont Avenue, Alhambra, CA 91803-1331, (626) 458-6189.

i. FERC Contact: Regina Saizan, (202) 502-8765.

j. Deadline for filing motions to intervene, protests, comments: April 25, 2003.

The Commission's Rules of Practice and Procedure require all interveners filing a document with the Commission to serve a copy of that document on each person in the official service list for the project. Further, if an intervener files comments or documents with the Commission relating to the merits of an issue that may affect the responsibilities of a particular resource agency, they must also serve a copy of the documents on that resource agency.

k. Description of Proposed Action: The Applicant seeks to surrender the conduit exemptions and to decommission the plants because of the significantly decreased demand for imported water at the barriers and the consequent decrease in the efficiency of the plants.

P-8434 consists of: (1) A single Francis turbine-generator unit with an installed capacity of 950 kW located at the West Coast Basin Service Connection No. 28, an underground pressure reducing station vault used for the distribution of water, (2) an inlet gate valve, (3) control panel, and (4) switch gear.

P-9007 consists of: (1) A reaction type turbine-generator unit with an installed capacity of 250 kW located at the West Coast Basin Service Connection No. 37, an underground pressure reducing station vault used for the distribution of water, (2) a control panel, (3) a control valve, (4) and a switch and metering box.

P-9008 consists of: (1) A reaction type turbine-generator unit with an installed capacity of 200 kW located at the Central Basin Service Connection No.44, an underground pressure reducing station vault used for the distribution of water, (2) a control panel, (3) a control valve, (4) and a switch and metering box.

l. The filings are available for review at the Commission in the Public Reference Room or may be viewed on the Commission's Web site at http://www.ferc.gov using the “FERRIS” link. Enter the docket number excluding the last three digits in the docket number field to access the document. For assistance, call toll-free 1-866-208-3676 or e-mail FERCOnlineSupport@ferc.gov. For TTY, call (202) 502-8659. A copy is also available for inspection and reproduction at the addresses in item h.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. Any of the above-named documents must be filed by providing an original and eight copies to: The Secretary, Federal Energy Regulatory Commission, 888 First Street, NE., Washington, DC 20426. A copy of any motion to intervene must also be served upon each representative of the Applicant specified in the particular application.

Comments, protests and interventions may be filed electronically via the Internet in lieu of paper; see 18 CFR 385.2001(a)(1)(iii) and the instructions on the Commission's Web site under the “e-Filing” link. The Commission strongly encourages electronic filings.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. 03-7586 Filed 3-28-03; 8:45 am]

BILLING CODE 6717-01-P